DEPARTMENT OF COMMERCE

National Oceanic and Atmospheric Administration

50 CFR Part 635

[I.D. 091106B]

RIN 0648-AU84

Atlantic Highly Migratory Species; Atlantic Commercial Shark Management Measures

AGENCY: National Marine Fisheries Service (NMFS), National Oceanic and Atmospheric Administration (NOAA), Commerce.

ACTION: Proposed rule; extension of comment period.

SUMMARY: This action extends the comment period for 12 days on an October 5, 2006, proposed rule regarding the first 2007 fishing season for Atlantic sharks. Due to late dealer reports that may substantially change landings estimates of large and small coastal sharks during the first trimester of 2006 for the Gulf of Mexico, NMFS is extending the comment deadline on that proposed rule from November 1, 2006, until November 13, 2006.

DATES: The deadline for written comments on the October 5, 2006 (71 FR 58778) proposed rule has been extended from November 1 to no later than 5 p.m. on November 13, 2006.

ADDRESSES: Written comments on the proposed rule may be submitted to Michael Clark, Highly Migratory Species Management Division via:

• Email: SF1.091106B@noaa.gov.

• Mail: 1315 East-West Highway, Silver Spring, MD 20910. Please mark on the outside of the envelope “Comments on Proposed Rule for 2007 1st Trimester Season Lengths and Quotas.”

• Fax: 301-713-1917.

• Federal e-Rulemaking Portal: http://www.regulations.gov. Include in the subject line the following identifier: “I.D. 091106B”.

Copies of the associated draft Environmental Assessment (EA) and other relevant documents are available on the Highly Migratory Species Management Division's website at www.nmfs.noaa.gov/sfa/hms or by contacting Michael Clark (see FOR FURTHER INFORMATION CONTACT).

FOR FURTHER INFORMATION CONTACT: Michael Clark or Karyl Brewster-Geisz by phone: 301-713-2347 or by fax: 301-713-1917.

SUPPLEMENTARY INFORMATION: The Atlantic shark fishery is managed under the authority of the Magnuson-Stevens Fishery Conservation and Management Act (Magnuson-Stevens Act). NMFS recently finalized a Consolidated Highly Migratory Species Fishery Management Plan (HMS FMP) that consolidated and replaced previous FMPs for Atlantic Billfish and Atlantic Tunas, Swordfish, and Sharks (October 2, 2006; 71 FR 58058). The HMS FMP is implemented by regulations at 50 CFR part 635.

On October 5, 2006 (71 FR 58778), NMFS published a proposed rule that requested comments on the draft EA and scheduled three public hearings throughout October 2006 to receive comments from fishery participants and other members of the public regarding the first 2007 fishing season for Atlantic sharks. Based on late dealer reports that may substantially change landings estimates of large and small coastal sharks in the Gulf of Mexico during the first trimester of 2006, NMFS is extending the comment period on this proposed rule. NMFS is still updating the landings estimates and will release them in a future Federal Register notice. At this time, NMFS does not expect the landings estimates or the proposed measures to change substantially in the South Atlantic or North Atlantic regions. In order to incorporate these updated landings and to provide adequate opportunities for public comment by constituents, NMFS is extending the public comment period on the proposed rule and draft EA to 5 p.m., November 13, 2006.

Authority: 16 U.S.C. et seq.; 16 U.S.C. 1801 et seq.

Dated: October 26, 2006.
Alan D. Risenhoover,
Director, Office of Sustainable Fisheries, National Marine Fisheries Service.

[FR Doc. 06-9008 Filed 10-27-06; 2:36 pm]

BILLING CODE 3510-22-S